OFFICE OF PERSONNEL MANAGEMENT

Submission for Review: Revision of an Existing Information Collection, Combined Federal Campaign Charity Applications, OPM Forms 1647-A, -B, and -E, 3206-0269

AGENCY: Office of Personnel Management.

ACTION: 60-Day notice and request for comments.

SUMMARY: The Combined Federal Campaign (CFC), Office of Personnel Management (OPM) offers the general public and other federal agencies the opportunity to comment on a revision to an existing information collection request, CFC Applications OMB Control No. 3206-0269, which includes OPM Forms 1647-A, -B, and -E. As required by the Paperwork Reduction Act of 1995, as amended by the Clinger-Cohen Act, OPM is soliciting comments for this collection.

DATES: Comments are encouraged and will be accepted until October 11, 2022. This process is conducted following 5 CFR 1320.1.

ADDRESSES: Interested persons are invited to submit written comments on the proposed information collection to the U.S. Office of Personnel Management, Office of Combined Federal Campaign, 1900 E Street NW, Washington, DC 20415, Attention: Vanessa Bell or sent via electronic mail to cfc@opm.gov.

FOR FURTHER INFORMATION CONTACT: A copy of this ICR, with applicable supporting documentation, may be obtained by contacting the U.S. Office of Personnel Management, Office of Combined Federal Campaign, 1900 E Street NW, Washington, DC 20415, Attention: Vanessa Bell or sent via electronic mail to cfc@opm.gov; or by phone at 202-936-3406.

SUPPLEMENTARY INFORMATION: The OPM is particularly interested in comments for this collection that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The CFC is the world's largest and most successful annual workplace philanthropic giving campaign, with 36 CFC Zones throughout the country and overseas raising millions of dollars each year. The mission of the CFC is to promote and support philanthropy through a program that is employee-focused, cost-efficient, and effective in providing all federal employees the opportunity to improve the quality of life for all.

The CFC Eligibility Applications are used to review the eligibility of national, international, and local charitable organizations that wish to participate in the CFC. The proposed revision adds an optional short question in which charities can choose to share the types of volunteer jobs they offer for Federal employees. The form shall include a drop-down list by which charities can choose if they wish to do so.

Analysis

Agency: Combined Federal Campaign, Office of Personnel Management.

Title: OPM Forms 1647-A, -B, and -E.

OMB Number: OMB Control No. 3206-0269.

Frequency: Annually.

Affected Public: Individuals or Households.

Number of Respondents: 6,000.

Estimated Time per Respondent: 2 hours.

Total Burden Hours: 12,000 hours.

U.S. Office of Personnel Management.
Kellie Cosgrove Riley,
Executive Director, Office of Privacy and Information Management.

[FR Doc. 2022-17045 Filed 8-10-22; 8:45 am]

BILLING CODE 6325-46-P